DEPARTMENT OF ENERGY

Federal Energy Regulatory Commission

[Docket No. RP04-265-000]

Northern Natural Gas Company; Notice Postponing Technical Conference

July 23, 2004.

On July 21, 2004, Northern Natural Gas Company (Northern) filed a request to postpone a technical conference scheduled for Tuesday, July 27, 2004, in the above-docketed proceeding. In its filing, Northern states that parties to this proceeding have been working to resolve issues in this docket and have reached an agreement in principle in this proceeding.

By this notice, the conference previously scheduled for July 27, 2004, is postponed. Northern is directed to file a status report in this docket on or before August 16, 2004.

Linda Mitry,
Acting Secretary.

[FR Doc. E4-1678 Filed 7-29-04; 8:45 am]

BILLING CODE 6717-01-P